DEPARTMENT OF TRANSPORTATION

Office of the Secretary of Transportation

[DOT Docket No. DOT-OST-2010-0074]

The Future of Aviation Advisory Committee (FAAC) Subcommittee on Labor and World-Class Workforce; Notice of Meeting

AGENCY: Office of the Secretary of Transportation, Department of Transportation.

ACTION: The Future of Aviation Advisory Committee (FAAC) Subcommittee on Labor and World-Class Workforce; Notice of meeting.

SUMMARY: The Department of Transportation (DOT), Office of the Secretary of Transportation, announces a meeting of the FAAC Subcommittee on Labor and World-Class Workforce, which will be held via teleconference at (877) 336-1839, participant code 9757062. This notice announces the date, time, and location of the meeting, which will be open to the public. The purpose of the FAAC is to provide advice and recommendations to the Secretary of Transportation to ensure the competitiveness of the U.S. aviation industry and its capability to manage effectively the evolving transportation needs, challenges, and opportunities of the global economy. The Subcommittee is charged with ensuring the availability and quality of a workforce necessary to support a robust, expanding commercial aviation industry in light of the changing socioeconomic dynamics of the world's technologically advanced economies. Among other matters, the subcommittee will examine certain issues affecting the future employment requirements of the aviation industry: (1) The need for science, technology, engineering and math (STEM) skills in the industry; (2) the creation of a culture of dignity and respect in the workplace; and (3) the impact of Next Generation Air Transportation System on various aviation workforces; and (4) identifying labor and workforce subject-matter experts who could brief the subcommittee and the FAAC at its August 25, 2010 meeting in Chicago, Illinois.

DATES: The meeting will be held on August 6, 2010, from 1 p.m. to 4 p.m. Eastern Daylight time.

ADDRESSES: The Labor/World-Class Workforce Subcommittee meeting will be held via teleconference at (877) 336-1839, participant code 9757062.

Public Access: The meeting is open to the public. (See below for registration instructions.)

Public Comments: Persons wishing to offer written comments and suggestions concerning the activities of the FAAC or Labor/World-Class Workforce Subcommittee should file comments in the Public Docket (Docket Number DOT-OST-2010-0074 at http://www.regulations.gov) or alternatively through the FAAC@dot.gov e-mail. If comments and suggestions are intended specifically for the Subcommittee on Labor and World-Class Workforce, the term “Labor/Workforce” should be listed in the subject line of the message. To ensure such comments can be considered by the subcommittee before its August 6, 2010, meeting, public comments must be filed by 5 p.m. Eastern Daylight time on Friday, July 30, 2010.

SUPPLEMENTARY INFORMATION:

Background

Under section 10(a)(2) of the Federal Advisory Committee Act (5 U.S.C. App. 2), we are giving notice of a virtual meeting via teleconference of the FAAC Subcommittee on Labor and World-Class Workforce taking place on August 6, 2010, from 1 p.m. to 4 p.m. Eastern Daylight time, via teleconference at (877) 336-1839, participant code 9757062. Background information may be found at the FAAC Web site, located at http://www.dot.gov/faac/. The agenda includes—

1. Discussion of topics offered by subcommittee members on the subject of labor and improving the workforce of the aviation industry.

2. Establishment of a plan and timeline for further subcommittee work.

3. Assignment of research projects to subcommittee members.

4. Identification of priority issues for the third subcommittee meeting.

5. Identification of subject matter experts who could brief the Subcommittee and the FAAC at its next meeting.

Registration

The telephone conference can accommodate up to 100 members of the public. Persons desiring to listen to the discussion must pre-register through e-mail to FAAC@dot.gov. The term “Registration: Labor/Workforce” must be listed in the subject line of the message, and access will be limited to the first 100 persons to pre-register and receive a confirmation of their pre-registration. No arrangements are being made for audio or video transmission or for oral statements or questions from the public during the meeting. Minutes of the meeting will be taken and will be posted on the FAAC Web site at http://www.dot.gov/faac/.

Request for Special Accommodation

The DOT is committed to providing equal access to this meeting for all participants. If you need alternative formats or services because of a disability, please send a request to FAAC@dot.gov with the term “Special Accommodations” listed in the subject line of the message by close of business on Friday, July 30, 2010.

FOR FURTHER INFORMATION CONTACT: Terri L. Williams, Director, Center for Organizational Excellence, Assistant Administrator for Human Resources, Federal Aviation Administration, 800 Independence Avenue, SW., Washington, DC 20591; (202) 267-3456, extension 7472; or Regis P. Milan, Associate Director, Office of Aviation Analysis, U.S. Department of Transportation; Room 86W309, 1200 New Jersey Avenue, SE., Washington, DC 20590; (202) 366-2349.

Issued in Washington, DC, on July 16, 2010.
Pamela Hamilton-Powell,
Designated Federal Official, Future of Aviation Advisory Committee.

[FR Doc. 2010-17825 Filed 7-20-10; 8:45 am]

BILLING CODE P